DEPARTMENT OF ENERGY

Federal Energy Regulatory Commission

[Docket No. RP00-526-000]

Sea Robin Pipeline Company; Notice of Proposed Changes in FERC Gas Tariff

September 6, 2000.

Take notice that on August 31, 2000, Sea Robin Pipeline Company (Sea Robin) tendered for filing as part of its FERC Gas Tariff, First Revised Volume No. 1, Fourth Revised Sheet No. 58, to be effective October 1, 2000.

Sea Robin states that the purpose of this filing is to facilitate compliance with the Commission's Regulation of Short-Term Natural Gas Transportation Service, and Regulation of Interstate Natural Gas Transportation Services in Docket Nos. RM98-10-000 and RM98-12-000 issued on February 9, 2000, 90 FERC ¶ 61,109 (Order No. 637) and the revised reporting requirements in Section 161.3(1)(2) of the Commission's Regulations. Specifically, the proposed changes remove the shared operating personnel and facilities information from the tariff. Under the Commission's revised regulations this information will now be available on Sea Robin's Internet web site.

Sea Robin states that copies of this filing are being served on all affected customers and applicable state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-23299 Filed 9-11-00; 8:45 am]

BILLING CODE 6717-01-M